DEPARTMENT OF COMMERCE

National Oceanic and Atmospheric Administration

[I.D. 092606H]

Gulf of Mexico Fishery Management Council; Public Meetings

AGENCY: National Marine Fisheries Service (NMFS), National Oceanic and Atmospheric Administration (NOAA), Commerce.

ACTION: Notice of cancellation of a public meeting.

SUMMARY: The Gulf of Mexico Fishery Management Council has cancelled the conference call that was scheduled for October 18, 2006.

ADDRESSES:

Council address: Gulf of Mexico Fishery Management Council, 2203 North Lois Avenue, Suite 1100, Tampa, FL 33607.

FOR FURTHER INFORMATION CONTACT: Wayne E. Swingle, Executive Director, Gulf of Mexico Fishery Management Council; telephone: (813) 348-1630.

SUPPLEMENTARY INFORMATION: The notice for the conference call published in the Federal Register on October 2, 2006, 71 FR 57927. The Council has cancelled the conference call.

Dated: October 5, 2006.
Tracey L. Thompson,
Acting Director, Office of Sustainable Fisheries, National Marine Fisheries Service.

[FR Doc. E6-16850 Filed 10-11-06; 8:45 am]

BILLING CODE 3510-22-S